NATIONAL SCIENCE FOUNDATION

National Science Board; Workshop on Fostering Transformative Research—Views From Industry and Private Foundations

Date: May 16, 2006.

Place: National Science Foundation, Arlington, Virginia, Room 1235.

Contact Information: Please refer to the National Science Board Web site (http://www.nsf.gov/nsb) for updated schedule. NSB Office: Ann Ferrante, (703) 292-7000.

Status: This Workshop is open to the public.

Provisional Agenda

8 a.m.-8:30 a.m. Registration.

8:30 a.m.-8:50 a.m. Welcoming Remarks. Dr. Nina Fedoroff, Chair, Task Force on Transformative Research, NSB.

8:50 a.m.-9 a.m. Introduction and Overview. Dr. Michael Crosby, Executive Officer, NSB.

9 a.m.-11:15 a.m. Session I: Foundation Perspectives.

12:30 p.m.-2:45 p.m. Session II: Industry Perspectives.

2:45 p.m.-3 p.m. Break.

3 p.m.-4:30 p.m. Session III: Other Perspectives.

4:30 p.m.-4:45 p.m. Summaries of Discussions and Next Steps for the Task Force.

Michael P. Crosby,
Executive Officer and NSB Office Director.

[FR Doc. E6-7213 Filed 5-10-06; 8:45 am]

BILLING CODE 7555-01-P